DEPARTMENT OF DEFENSE

Department of the Army

Board of Visitors for the Western Hemisphere Institute for Security Cooperation Meeting Notice

AGENCY: Department of the Army, Department of Defense (DoD).

ACTION: Notice of Federal Advisory Committee meeting.

SUMMARY: The Department of the Army is publishing this notice to announce the following virtual Federal Advisory Committee meeting of the Board of Visitors (Board) for the Western Hemisphere Institute for Security Cooperation (the Institute).

DATES: Open to the public virtually on Thursday, December 3, 2020 from 2:00 p.m. to 4:00 p.m. Eastern Standard Time (EST).

ADDRESSES: The Board meeting will be held online and via a teleconference line. To participate in the meeting, see the Meeting Accessibility section for instructions.

FOR FURTHER INFORMATION CONTACT: Mr. Richard Procell, Alternate Designated Federal Officer for the Board, in writing at USACGSC, 100 Stimson Avenue, Fort Leavenworth, KS 66027-2301, by email at richard.d.procell2.civ@mail.mil, by telephone at (913) 684-2963.

SUPPLEMENTARY INFORMATION: This meeting is being held under the provisions of the Federal Advisory Committee Act of 1972 (92 Pub. L. 463, 86 Stat. 770), the Government in the Sunshine Act of 1976 (94 Pub. L. 409, 90 Stat. 1241) 41 CFR 102-3.140, and 41 CFR 102-3.150.

Purpose of the Meeting: The Board is a non-discretionary Federal Advisory Committee chartered to provide the Secretary of Defense, through the Secretary of the Army, independent advice and recommendations on matters pertaining to the curriculum, instruction, physical equipment, fiscal affairs, and academic methods of the Institute; matters relating to the Institute that the board decides to consider; and items that the Secretary of Defense deems appropriate. The Board reviews the Institute's curriculum to determine whether it adheres to U.S. doctrine, applicable U.S. laws and regulations, and U.S. policy goals toward Latin America and the Caribbean. The Board also determines whether the curriculum appropriately emphasizes human rights, the rule of law, due process, civilian control of the military, and the role of the military in a democratic society. The Secretary of Defense may act on the Board's advice and recommendations.

Agenda: Members of the Board will receive briefings from the Institute's commandant and course directors; updates from the Department of State, U.S. Northern Command and U.S. Southern Command; and the presentation of other information appropriate to the Board's interests. The agenda also includes a public comment period where individuals or interested organizations may address members of the Board.

Meeting Accessibility: Pursuant to 5 U.S.C. 552b, and 41 CFR 102-3.140, this meeting is open to the public. Persons desiring to participate in the meeting virtually must submit their name, organization, email and telephone to the Alternate Designated Federal Officer at the email or physical address listed above no later than Monday, November 23, 2020. Instructions to attend the virtual meeting will be provided by reply email. Attendees desiring to make public comments are requested to register by providing their name, affiliation, and daytime phone number to the Alternate Designated Federal Officer at the email or physical address listed above no later than Monday, November 23, 2020. Public comments may be made from 3:30 p.m. to 3:45 p.m. EST and will be limited to two minutes each.

Written Comments and Statements: All written statements shall be submitted to the Alternate Designated Federal Officer at the email or physical address listed in the FOR FURTHER INFORMATION CONTACT section. Each page of the statement must include the author's name, affiliation, and daytime phone number. Written statements must be received no later than Monday, November 23, 2020 to be considered by the Board. The Alternate Designated Federal Officer will review all timely submitted statements with the Board chairperson, and will provide statements to the members before the meeting. Written comments or statements received after November 23, 2020 will be filed and presented to the Board during its next meeting.

James W. Satterwhite,
Alternate, Army Federal Register Liaison Officer.

[FR Doc. 2020-24287 Filed 11-2-20; 8:45 am]

BILLING CODE 5061-AP-P